DEPARTMENT OF TRANSPORTATION

Federal Aviation Administration

14 CFR Part 39

[Docket No. 2002-NE-13-AD; Amendment 39-12946; AD 2002-23-02]

RIN 2120-AA64

Airworthiness Directives; General Electric Company CF34-8C1 Turbofan Engines, Correction

AGENCY: Federal Aviation Administration, DOT.

ACTION: Final rule; correction.

SUMMARY: This document makes a correction to a previous correction to Airworthiness Directive (AD) 2002-23-02 applicable to General Electric Company CF34-8C1 turbofan engines that was published in the Federal Register on December 11, 2002 (67 FR 76111). A typographical error was made in the AD number in line three of the Summary. This document corrects that number. In all other respects, the original document remains the same.

EFFECTIVE DATE: December 26, 2002.

FOR FURTHER INFORMATION CONTACT: Keith Mead, Aerospace Engineer, Engine Certification Office, FAA, Engine and Propeller Directorate, 12 New England Executive Park, Burlington, MA 01803-5299; telephone (781) 238-7744; fax (781) 238-7199.

SUPPLEMENTARY INFORMATION: A final rule correction AD, FR Doc. 02-31173 applicable to General Electric Company CF34-8C1 turbofan engines was published in the Federal Register on December 11, 2002 (67 FR 76111). The following correction is needed:

On page 76111, in the third column, in the third line of the Summary, remove the AD number “(AD) 2002-23-09” and add in its place “(AD) 2002-23-02”.

Issued in Burlington, MA, on December 12, 2002.
Francis A. Favara,
Assistant Manager, Engine and Propeller Directorate, Aircraft Certification Service.

[FR Doc. 02-31999 Filed 12-18-02; 8:45 am]

BILLING CODE 4910-13-P